DEPARTMENT OF THE INTERIOR

Fish and Wildlife Service

Conference of the Parties to the Convention on International Trade in Endangered Species of Wild Fauna and Flora (CITES); Twelfth Regular Meeting; Public Meeting; Observer Information

AGENCY: Fish and Wildlife Service, Interior.

ACTION: Notice.

SUMMARY: The United States, as a Party to the Convention on International Trade in Endangered Species of Wild Fauna and Flora (CITES), may submit proposed resolutions, decisions, and agenda items for consideration at meetings of the Conference of the Parties to CITES. The United States may also propose amendments to the CITES Appendices for consideration at meetings of the Conference of the Parties. The twelfth regular meeting of the Conference of the Parties to CITES (COP12) will be held in Santiago, Chile, November 3-15, 2002.

With this notice we:

Announce a public meeting to discuss proposed amendments to the CITES Appendices (species proposals), resolutions, decisions, and agenda items that the United States is considering submitting for consideration at COP12; and

Provide information on how non-governmental organizations based in the United States can attend COP12 as observers.

DATES: The public meeting will be held on April 17, 2002, at 1:30 p.m. We will consider written information and comments you submit concerning potential species proposals, proposed resolutions, proposed decisions, and agenda items that the United States is considering submitting for consideration at COP12, and other items relating to COP12, if we receive them by May 17, 2002.

ADDRESSES:

Public Meeting

The public meeting will be held in Sidney Yates Auditorium, in the Department of the Interior at 18th and C Streets, N.W., Washington, D.C. Directions to the building can be obtained by contacting the Division of Management Authority (see FOR FURTHER INFORMATION CONTACT, below).

Available Information

Information concerning potential species proposals, proposed resolutions, proposed decisions, and agenda items that the United States is considering submitting for consideration at COP12 is available upon request from the Division of Management Authority; U.S. Fish and Wildlife Service; 4401 North Fairfax Drive; Room 700; Arlington, VA 22203. Effective April 1, 2002, this information will also be available from our World Wide Web site (http://international.fws.gov/cites/cites.html) and via our Faxback system. You may obtain the information via the Faxback system by dialing 703/358-2400, our Faxback telephone number, following the automated instructions, and entering Document Number 5054 when prompted to enter a document number.

Comment Submission

Comments pertaining to proposed resolutions, proposed decisions, and/or agenda items should be sent to the Division of Management Authority; U.S. Fish and Wildlife Service; 4401 North Fairfax Drive; Room 700; Arlington, VA 22203, or via E-mail at: fw9 cites@fws.gov, or via fax at: 703/358-2298. Comments pertaining to species proposals should be sent to the Division of Scientific Authority; U.S. Fish and Wildlife Service; 4401 North Fairfax Drive; Room 750; Arlington, VA 22203, or via e-mail at: fw9 scientific authority@fws.gov, or via fax at: 703/358-2276. Comments and materials received will be available for public inspection, by appointment, from 8 a.m. to 4 p.m., Monday through Friday, at either the Division of Management Authority or the Division of Scientific Authority.

FOR FURTHER INFORMATION CONTACT: Andrea Gaski, Division of Management Authority, Branch of CITES Operations, phone: 703/358-2095, fax: 703/358-2298, E-mail: fw9 cites@fws.gov; or Robert R. Gabel, Division of Scientific Authority, phone: 703/358-1708, fax: 703/358-2276, E-mail: fw9 scientific authority@fws.gov.

SUPPLEMENTARY INFORMATION:

Background

The Convention on International Trade in Endangered Species of Wild Fauna and Flora, hereinafter referred to as CITES or the Convention, is an international treaty designed to control and regulate international trade in certain animal and plant species that are now or potentially may be threatened with extinction if their trade is not controlled. These species are listed in Appendices to CITES, copies of which are available from the Division of Management Authority or the Division of Scientific Authority at the above addresses, from our World Wide Web site at http://international.fws.gov/cites/cites.html, or from the official CITES Secretariat Website at http://www.cites.org/eng/append/index.shtml. Currently, 157 countries, including the United States, are Parties to CITES. CITES calls for biennial meetings of the Conference of the Parties, which review its implementation, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and agenda items for consideration by the other Parties.

This is our third in a series of Federal Register notices that provide you with an opportunity to participate in the development of the United States' negotiating positions for the twelfth regular meeting of the Conference of the Parties to CITES (COP12). We published our first such Federal Register notice on June 12, 2001 (66 FR 31686), and with it we requested information and recommendations on potential species amendments for the United States to consider proposing at COP12. Information on that Federal Register notice, and on species amendment proposals, is available from the Division of Scientific Authority at the above address. We published our second such Federal Register notice on July 25, 2001 (66 FR 38739), and with it we requested information and recommendations on potential resolutions, decisions, and agenda items for the United States to submit for consideration at COP12. You may obtain information on that Federal Register notice, and on proposed resolutions, proposed decisions, and agenda items, from the Division of Management Authority at the above address. You may locate our regulations governing this public process in 50 CFR 23.31-23.39.

COP12 is scheduled to be held in Santiago, Chile, November 3-15, 2002.

Announcement of Public Meeting

We announce that we will hold a public meeting to discuss with you species proposals, proposed resolutions, proposed decisions, and agenda items that the United States is considering submitting for consideration at COP12. The public meeting will be held on April 17, 2002, from 1:30 p.m. to 4:30 p.m. in Sidney Yates Auditorium of the Department of the Interior at 18th and C Streets, NW., Washington, DC. You can obtain directions to the building by contacting the Division of Management Authority (see FOR FURTHER INFORMATION CONTACT, above). Sidney Yates Auditorium is accessible to the handicapped. Persons planning to attend the meeting who require interpretation for the hearing impaired should notify the Division of Management Authority as soon as possible. All persons planning to attend the meeting will be required to present photo identification when entering the building.

Observers

Article XI, paragraph 7 of CITES states the following:

“Any body or agency technically qualified in protection, conservation or management of wild fauna and flora, in the following categories, which has informed the Secretariat of its desire to be represented at meetings of the Conference by observers, shall be admitted unless at least one-third of the Parties present object:

(a) International agencies or bodies, either governmental or non-governmental, and national governmental agencies and bodies; and

(b) National non-governmental agencies or bodies which have been approved for this purpose by the State in which they are located.

Once admitted, these observers shall have the right to participate but not to vote.”

Persons wishing to be observers representing international non-governmental organizations (which must have offices in more than one country) at COP12 may request approval directly from the CITES Secretariat. Persons wishing to be observers representing U.S. national non-governmental organizations at COP12 must receive prior approval from our Division of Management Authority. Once we grant our approval, a U.S. national non-governmental organization is eligible to register with the Secretariat and must do so at least one month prior to the opening of COP12 to participate in COP12 as an observer. Individuals who are not affiliated with an organization may not register as observers. An international non-governmental organization with at least one office in the United States may register as a U.S. non-governmental organization if it prefers.

A request submitted to us for approval as an observer should include evidence of technical qualifications in protection, conservation, or management of wild fauna and/or flora, on the part of both the organization and the individual representative(s). The request should also include copies of the organization's charter and/or bylaws, and a list of representatives it intends to send to COP12. An organization that we have previously approved as an observer at a meeting of the Conference of the Parties within the past five years must submit a request but does not need to provide as much detailed information concerning its qualifications as an organization seeking approval for the first time. Organizations seeking approval for the first time should detail their experience in the protection, conservation, or management of wild fauna and/or flora, as well as their purposes for wishing to participate in COP12 as an observer. These requests should be sent to the Division of Management Authority (see ADDRESSES, above).

Once we approve an organization as an observer, we will send the organization instructions for registration with the CITES Secretariat in Switzerland, including a meeting registration form and relevant travel and hotel information. Any organization requesting approval for observer status at COP12 will be added to our CITES Mailing List if it is not already included, and will receive notice of all future Federal Register notices and other information pertaining to COP12. A list of organizations approved for observer status at COP12 will be available upon request from the Division of Management Authority just prior to the start of COP12. The deadline for registration of an organization as an observer at COP12 is one month prior to the opening of the COP.

Future Actions

The United States must submit any species proposals, proposed resolutions, proposed decisions, and agenda items for consideration at COP12, to the CITES Secretariat 150 days prior to the start of the meeting (i.e., by June 6, 2002). We are planning to soon publish a Federal Register notice announcing species proposals, proposed resolutions, proposed decisions, and agenda items that the United States is considering submitting to COP12, and soliciting further information and comments on them. We will consider all available information and comments, including those presented at the public meeting (see DATES above) or received in writing during the comment period, in deciding which species proposals, proposed resolutions, proposed decisions, and agenda items warrant submission by the United States for consideration of the Parties. Those we decide to submit for consideration at COP12 will be submitted to the CITES Secretariat by June 6, 2002.

We expect the CITES Secretariat to provide us with a provisional agenda for COP12 within the next several months. Once we receive the provisional agenda, we will publish it in a Federal Register notice. We will also plan to provide it through our Website, if it is available.

Approximately four months prior to COP12, we plan to announce those species proposals, proposed resolutions, proposed decisions, and agenda items submitted by the United States to the CITES Secretariat for consideration at COP12 by posting a notice on our Website, if it is available.

Through a Federal Register notice approximately two months prior to COP12, we will publish the provisional agenda for COP12 and inform you about proposed U.S. negotiating positions on proposals to amend the Appendices, draft resolutions, draft decisions, discussion papers, and other issues before the Parties for consideration at COP12. We will also publish an announcement of a public meeting that we expect to hold approximately 30 to 45 days prior to COP12, to receive public input on our positions regarding COP12 issues.

Prior to COP12, we plan to post on our Website (if it is available) any changes the United States makes to its proposed negotiating positions contained in the Federal Register notice referred to in the above paragraph.

Authority: The primary author of this notice is Mark Albert, Division of Management Authority; under the authority of the U.S. Endangered Species Act of 1973, as amended (16 U.S.C. 1531 et seq.).

Dated: March 12, 2002.
Steve Williams,
Director.

[FR Doc. 02-7313 Filed 3-26-02; 8:45 am]

BILLING CODE 4310-55-P